DEPARTMENT OF COMMERCE

International Trade Administration

[A-570-863]

Honey from the People's Republic of China: Notice of Partial Rescission of Antidumping Duty Administrative Review

AGENCY: Import Administration, International Trade Administration, Department of Commerce.

EFFECTIVE DATE: May 3, 2007.

FOR FURTHER INFORMATION CONTACT: Catherine Bertrand, AD/CVD Operations, Office 9, Import Administration, International Trade Administration, U.S. Department of Commerce, 14th Street and Constitution Avenue, NW., Washington DC 20230; telephone: (202) 482-3207.

SUPPLEMENTARY INFORMATION:

Background

On February 2, 2007, the Department of Commerce (“Department”) published a notice of initiation of an administrative review of the antidumping duty order on honey from the People's Republic of China (“PRC”) covering the period December 1, 2005, through November 30, 2006. See Initiation of Antidumping and Countervailing Duty Administrative Reviews and Request for Revocation in Part, 72 FR 5005 (February 2, 2007) (“Initiation Notice”).

On April 10, 2007, the American Honey Producers Association and the Sioux Honey Association (“Petitioners”) withdrew their request for an administrative review for the following twenty-two companies: Cheng Du Wai Yuan Bee Products Co., Ltd., Chiangmai Healthyproduct Co., Ltd., Hangzhou Xinsheng (or Xinyun) Shipping Agency Co., Ltd., Shanghai Xinyun International Transportation Co., Ltd., Apiarist Co., Hangzhou Golden Harvest Health Industry Co., Ltd., Shanghai Taiside Trading Co., Ltd., Wuhan Bee Healthy Co., Ltd., Wuhan Shino-Food Trade Co., Ltd., China Ocean Shipping Agency Beijing, Rich Shipping Company, M&H Shipping (Shanghai) Corporation, United Logistics Group Inc., Beijing World Trade Co., Ltd., Hangzhou Golden Dragon Group Corporation Ltd., Kunshan Xinrui Co., Ltd., Qingdao Aolan Trade Co., Ltd., Sichuan-Dujiangyan Dubao Bee Industrial Co., Ltd., Eurasia Bee's Products Co., Ltd., Anhui Honghui Foodstuff (Group) Co., Ltd., Jiangsu Kanghong Natural Healthfoods Co., Ltd., and Tianjin Eulia Honey Co., Ltd. Petitioners were the only party to request a review of the entries of subject merchandise exported by these companies.

Partial Rescission

Pursuant to 19 CFR 351.213(d)(1), the Secretary will rescind an administrative review, in whole or in part, if a party who requested the review withdraws the request within ninety days of the date of publication of notice of initiation of the requested review.

Because the Petitioners' withdrawal of requests for review was timely and no other party requested a review of the aforementioned companies, in accordance with 19 CFR 351.213(d)(1), we are rescinding this review with respect to Cheng Du Wai Yuan Bee Products Co., Ltd., Chiangmai Healthyproduct Co., Ltd., Hangzhou Xinsheng (or Xinyun) Shipping Agency Co., Ltd., Shanghai Xinyun International Transportation Co., Ltd., Apiarist Co., Hangzhou Golden Harvest Health Industry Co., Ltd., Shanghai Taiside Trading Co., Ltd., Wuhan Bee Healthy Co., Ltd., Wuhan Shino-Food Trade Co., Ltd., China Ocean Shipping Agency Beijing, Rich Shipping Company, M&H Shipping (Shanghai) Corporation, United Logistics Group Inc., Beijing World Trade Co., Ltd., Hangzhou Golden Dragon Group Corporation Ltd., Kunshan Xinrui Co., Ltd., Qingdao Aolan Trade Co., Ltd., Sichuan-Dujiangyan Dubao Bee Industrial Co., Ltd., Eurasia Bee's Products Co., Ltd., Anhui Honghui Foodstuff (Group) Co., Ltd., Jiangsu Kanghong Natural Healthfoods Co., Ltd., and Tianjin Eulia Honey Co., Ltd.

Assessment Rates

The Department will instruct U.S. Customs and Border Protection (“CBP”) to assess antidumping duties on all appropriate entries. For those companies for which this review has been rescinded and which have a separate rate, antidumping duties shall be assessed at rates equal to the cash deposit of estimated antidumping duties required at the time of entry, or withdrawal from warehouse, for consumption, in accordance with 19 CFR 351.212(c)(2). The Department will issue appropriate assessment instructions directly to CBP within 15 days of publication of this notice. For those companies for which this review has been rescinded but do not have a separate rate at this time (and thus remain part of the PRC-wide entity), the Department will issue assessment instructions upon the completion of this administrative review.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Act and 19 CFR 351.213(d)(4).

Dated: April 26, 2007.
Stephen J. Claeys,
Deputy Assistant Secretary for Import Administration.

[FR Doc. E7-8479 Filed 5-2-07; 8:45 am]

BILLING CODE 3510-DS-S